FEDERAL COMMUNICATIONS COMMISSION

47 CFR Part 73

[DA 00-1896; MM Docket No. 98-85; RM-9286, RM-9359]

Radio Broadcasting Services; Meeteetse and Cody, WY.

AGENCY: Federal Communications Commission.

ACTION: Final rule.

SUMMARY: The Commission, at the request of Windy Valley Broadcasting, allots Channel 273C to Meeteetse, Wyoming, as the community's first local aural service, and, at the request of L. Topaz Enterprises, Inc., allots Channel 244C3 to Cody, Wyoming, as the community's fourth local aural service. See 63 FR 34621 (June 25, 1998). Channel 273C can be allotted at Meeteetse in compliance with the Commission's minimum distance separation requirements, with respect to domestic allotments, without a site restriction at coordinates 44-09-24 and 108-52-24. Channel 244C3 can be allotted at Cody at coordinates 44-31-36 and 109-03-18 in compliance with the Commission's minimum distance separation requirements, with respect to domestic allotments without a site restriction. Filing windows for Channels 273C at Meeteetse and 244C3 at Cody will not be opened at this time. Instead, the issue of opening a filing window for each channel will be addressed by the Commission in a subsequent Order.

DATES: Effective October 2, 2000.

ADDRESSES: Federal Communications Commission, Washington, DC 20554.

FOR FURTHER INFORMATION CONTACT: Victoria M. McCauley, Mass Media Bureau, (202) 418-2180.

SUPPLEMENTARY INFORMATION: This is a synopsis of the Commission's Report and Order, MM Docket No. 98-85, adopted August 9, 2000, and released August 18, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, and 336.

2. Section 73.202(b), the Table of FM Allotments under Wyoming, is amended by adding Meeteetse, Channel 273C and Channel 244C3 at Cody.

Federal Communications Commission.
John A. Karousos,
Chief, Allocations Branch, Policy and Rules Division, Mass Media Bureau.

[FR Doc. 00-22615 Filed 9-1-00; 8:45 am]

BILLING CODE 6712-01-U